DEPARTMENT OF COMMERCE

International Trade Administration

[C-489-806]

Certain Pasta From the Republic of Turkey: Final Results of Countervailing Duty Administrative Review; 2019

AGENCY: Enforcement and Compliance, International Trade Administration, Department of Commerce.

SUMMARY: The Department of Commerce (Commerce) determines that Bessan Makarna Gida San. Ve Tic. A.S. (Bessan), a producer/exporter of certain pasta from the Republic of Turkey (Turkey) did not receive countervailable subsidies during the period of review (POR), January 1, 2019, through December 31, 2019.

DATES: Applicable November 15, 2021.

FOR FURTHER INFORMATION CONTACT: Brontee Jeffries or Theodore Pearson, AD/CVD Operations, Office I, Enforcement and Compliance, International Trade Administration, U.S. Department of Commerce, 1401 Constitution Avenue NW, Washington, DC 20230; telephone: (202) 482-4656 or (202) 482-2631, respectively.

SUPPLEMENTARY INFORMATION:

Background

On August 3, 2021, Commerce published the Preliminary Results and invited parties to comment.¹ No interested party submitted comments. Commerce conducted this review in accordance with section 751(a)(1)(A) of the Tariff Act of 1930, as amended (the Act).

¹ See Certain Pasta from the Republic of Turkey: Preliminary Results of Countervailing Duty Administrative Review; 2019, 86 FR 41816 (August 3, 2021) (Preliminary Results), and accompanying Preliminary Decision Memorandum (PDM).

Scope of the Order ²

² See Preliminary Results PDM.

The merchandise covered by the order is pasta from Turkey. For a complete description of the scope, see the Preliminary Results.³

³ See Preliminary Results PDM.

Changes Since the Preliminary Results

As no party submitted comments on the Preliminary Results, we made no changes in the final results of this review.

Final Results of the Administrative Review

In accordance with section 777A(e)(1) of the Act and 19 CFR 351.221(b)(5), we determine that Bessan did not receive countervailable subsidies during the POR:

Company | Subsidy rate (percent ad valorem)
Bessan Makarna Gida San. Ve Tic. A.S | 0.00

Assessment Rates

Commerce shall determine, and CBP shall assess, countervailing duties on all appropriate entries covered by this review, pursuant to section 751(a)(2)(C) of the Act and 19 CFR 351.212(b)(2). Because we determined that Bessan did not receive countervailable subsidies in the final results of this review, we intend to instruct CBP to liquidate the appropriate entries without regard to countervailing duties in accordance with 19 CFR 351.212(b)(2) and 19 CFR 351.106(c)(1).

Commerce intends to issue appropriate assessment instructions to CBP no earlier than 35 days after the date of this publication of the final results of this review in the Federal Register. If a timely summons is filed at the U.S. Court of International Trade, the assessment instructions will direct CBP not to liquidate relevant entries until the time for parties to file a request for a statutory injunction has expired (i.e., within 90 days of publication).

Cash Deposit Requirements

Pursuant to section 751(a)(2)(C) of the Act, Commerce also intends to instruct CBP to collect cash deposits of estimated countervailing duties at the appropriate rates. For shipments of subject merchandise by Bessan entered, or withdrawn from warehouse, for consumption on or after the date of publication of these final results, the cash deposit rate will be zero. For all non-reviewed firms, CBP will continue to collect cash deposits of estimated countervailing duties at the most recent company-specific or all-others rate applicable to the company, as appropriate. These cash deposit requirements, when imposed, shall remain in effect until further notice.

Administrative Protective Order

This notice serves as a reminder to parties subject to administrative protective order (APO) of their responsibility concerning the destruction of proprietary information disclosed under APO in accordance with 19 CFR 351.305(a)(3), which continues to govern business proprietary information in this segment of the proceeding. Timely written notification of return or destruction of APO materials or conversion to judicial protective order is hereby requested. Failure to comply with the regulations and the terms of an APO is sanctionable violation.

Notification to Interested Parties

The final results of this review are issued and published in accordance with sections 751(a)(1) and 777(i) of the Act.

Dated: November 8, 2021.
Ryan Majerus,
Deputy Assistant Secretary for Policy and Negotiations, Performing the Non-Exclusive Functions and Duties of The Assistant Secretary for Enforcement and Compliance.

[FR Doc. 2021-24857 Filed 11-12-21; 8:45 am]

BILLING CODE 3510-DS-P